NATIONAL SCIENCE FOUNDATION

National Science Board: Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: July 28, 2011 at 7:40 a.m., and July 29, 2011 at 7:30 a.m.

PLACE: National Science Foundation, 4201 Wilson Blvd., Room 1235, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pickup at the visitor's desk on the day of the meeting.

STATUS: Some portions open, some portions closed.

Open Sessions

July 28, 2011

7:40-7:45 a.m.

7:45-10:15 a.m.

11:15 a.m.-12 p.m.

1-2 p.m.

2-3 p.m.

3-3:45 p.m.

4-4:30 p.m.

July 29, 2011

8-8:45 a.m.

8:45-10 a.m.

10-10:45 a.m.

10:45-11:45 a.m.

1:30-2:45 p.m.

Closed Sessions

July 28, 2011

10:30-11:15 a.m.

3:45-4 p.m.

4:30-5:15 p.m.

July 29, 2011

7:30-8 a.m.

11:45 a.m.-12:15 p.m.

1:15-1:30 p.m.

UPDATES: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

MATTERS TO BE DISCUSSED:

Thursday, July 28, 2011

Chairman's Introduction

Open Session: 7:40-7:45 a.m., Room 1235.

Committee on Programs and Plans (CPP)

Open Session: 7:45-10:15 a.m., Room 1225

• Approval of Open Minutes

• Committee Chairman's Remarks

• Discussion Item: CPP Program Portfolio Planning

• NSB Information Item: iPlant Annual Report on Award Progress

• NSB Information Item: National Ecological Observatory Network (NEON) Update

• NSB Information Item: Network for Earthquake Engineering Simulation (NEES) Update

• NSB Information Item: LIGO—Data Management Plan

• NSB Information Item: IceCube Data Management Plan

• NSB Information Item: Gemini Cooperative Agreement

Closed Session: 10:30-11:15 a.m., Room 1235

• Committee Chairman's Remarks

• Approval of Closed Minutes

• NSB Information Item: Update on HPC Award

• NSB Action Item: Authorization to Fund Petascale Computing

Committee on Science and Engineering Indicators (SEI)

Open Session: 11:15 a.m.-12 p.m., Room 1235

• Committee Chairman's Remarks

• Approval of Minutes

• Discussion of Orange Book

• Update on Indicators Digest

• Update on State Data Tool

• Discussion of Companion Piece

Task Force on Merit Review (MR)

Open Session: 1-2 p.m., Room 1235

• Approval of Minutes

• Task Force Chairman's Remarks

• Discussion of Proposed Review Criteria

• Task Force Chairman's Closing Remarks

CSB Task Force on Data Policies (DP)

Open Session: 2-3 p.m., Room 1235

• Task Force Chairman's Remarks

• Discussion of Recommendations for Changes to NSF's Policies

• Closing Remarks from the Chairman

Committee on Audit and Oversight (A&O)

Open Session: 3-3:45 p.m., Room 1235

• Approval of Open Minutes

• Committee Chairman's Opening Remarks

• Discussion of Management and Oversight of Construction Contingency Budgeting and Expenditures

• Inspector General's Update

• Chief Financial Officer's Update

• Human Capital Management Update

• Committee Chairman's Closing Remarks

Closed Session: 3:45-4 p.m., Room 1235

• Approval of Closed Minutes

• Committee Chair's Opening Remarks

• Procurement Activities

• Continued Discussion of February 2011 Chief Information Officer Item

Committee on Strategy and Budget (CSB)

Open Session: 4-4:30 p.m., Room 1235

• Committee Chairman's Remarks

• Approval of Minutes

• NSF FY 2011 and 2012 Budget Update

• Review and Approval of Data Policies Task Force Recommendation

• Other Committee Business

Closed Session: 4:30-5:15 p.m.

• NSF FY 2013 Budget Development

Friday, July 29, 2011

Ad hoc Committee on Nominations for NSB Class of 2012-2018 (NOMS)

Closed Session 7:30-8 a.m.

• Approval of Minutes

• Committee Chairman's Remarks

• Review of June 28, 2011 Open Teleconference Discussion on the Timeline, Process and Procedures for Evaluating Nominees

• Update on Committee Activities

Committee on Education and Human Resources (CEH)

Open Session: 8 a.m.-8:45 a.m., Room 1235

• Approval of Minutes

• Discussion and Approval of the CEH STEM Education Prospective Horizon “Action Items”

• Discussion on challenges and opportunities for NSF's education agenda: Issues in developing a strategic vision for the Directorate for Education and Human Resources

• Updates from the Education and Human Resources Directorate

CPP Subcommittee on Polar Issues (SOPI)

Open Session: 8:45-10 a.m., Room 1235

• Subcommittee Chairman's Remarks/Approval of Minutes

• OPP Director's Remarks

• Report NRC & Blue Ribbon Panel USAP studies

• Interagency Arctic Policy Coordination

• McMurdo Station Resupply Issues

CPP Task Force on Unsolicited Mid-Scale Research (MS)

Open Session: 10-10:45 a.m., Room 1235

• Approval of Minutes

• Synopsis of June 5-7, 2011 mid-scale research workshop and discussion of workshop emerging themes

• Update and discussion on the ongoing and future plans of the Task Force

CSB Subcommittee on Facilities (SCF)

Open Session: 10:45-11:45 a.m., Room 1235

• Committee Chairman's Remarks

• Discuss and approve findings and recommendations from May Annual Portfolio Review

• Discuss COMPETES Mid-scale Instrumentation task

Closed Session 11:45 a.m.-12:15 p.m.

• Review, Discuss, Approve 2011 Annual Portfolio Review Document

• Discuss FY 2013 Facility Budget Issues

Plenary

Closed Session: 1:15-1:30 p.m., Room 1235

• Approval of Plenary Closed Minutes

• Awards and Agreements

• Closed Committee Reports

Plenary

Open Session: 1:30-2:45 p.m., Room 1235

• Approval of Plenary Open Session Minutes

• Chairman's Report

• Director's Report

• Open Committee Reports

Meeting Adjourns 2:45 p.m.

Ann Ferrante,
Writer-Editor.

[FR Doc. 2011-18323 Filed 7-15-11; 4:15 pm]

BILLING CODE 7555-01-P